DEPARTMENT OF TRANSPORTATION

Federal Highway Administration

Notice of Final Federal Agency Actions on Proposed Transportation Project in Florida

AGENCY: Federal Highway Administration (FHWA), DOT.

ACTION: Notice of Limitation on Claims for Judicial Review of Actions by Florida Department of Transportation (FDOT), pursuant to 23 U.S.C. 327, and other Federal Agencies.

SUMMARY: The FHWA, on behalf of the FDOT, is issuing this notice to announce actions taken by FDOT and other Federal Agencies that are final agency actions. These actions relate to the proposed project along the Venetian Causeway which is approximately 2.5 miles long, and is primarily a two-lane undivided facility that provides a major link between the cities of Miami and Miami Beach in Miami-Dade County, Florida. The Causeway includes ten fixed span bridges and two bascule leaf span bridges over the Intracoastal Waterway (ICWW) extending from North Bayshore Drive (City of Miami) to Purdy Avenue (City of Miami Beach). The twelve bridges are numbered Bridge 1 to Bridge 12 from west to east. The proposed improvements replace the fixed spans of Bridges 2 through 12 with concrete arched beams and the bascule span at Bridge 10 with a double leaf bascule bridge to meet current design and safety requirements. The proposed typical section is 16-ft wider than the existing as a result of enhanced pedestrian and bicycle provisions, and consists of an 11-ft. lane, 7-ft. bicycle lane and 8-ft. sidewalk in each direction. The bascule span at Bridge 1 has already been replaced and is not included in the proposed improvements. These actions grant licenses, permits, or approvals for the project.

DATES: By this notice, the FHWA, on behalf of FDOT, is advising the public of final agency actions subject to 23 U.S.C. 139(l)(1). A claim seeking judicial review of the Federal Agency actions on the listed highway project will be barred unless the claim is filed on or before June 9, 2023. If the Federal law that authorizes judicial review of a claim provides a time period of less than 150 days for filing such claim, then that shorter time period still applies.

FOR FURTHER INFORMATION CONTACT: For FDOT: Jennifer Marshall, P.E., Director, Office of Environmental Management, FDOT, 605 Suwannee Street, MS 37, Tallahassee, Florida 32399; telephone (850) 414-4316; email: Jennifer.Marshall@dot.state.fl.us. The FDOT Office of Environmental Management's normal business hours are 8:00 a.m. to 5:00 p.m. (Eastern Standard Time), Monday through Friday, except State holidays.

SUPPLEMENTARY INFORMATION: Effective December 14, 2016, and as subsequently renewed on May 26, 2022, the FHWA assigned, and the FDOT assumed, environmental responsibilities for this project pursuant to 23 U.S.C. 327. Notice is hereby given that FDOT and other Federal Agencies have taken final agency actions subject to 23 U.S.C. 139(l)(1) by issuing licenses, permits, or approvals for the proposed improvement highway project. The actions by FDOT and other Federal Agencies on the project, and the laws under which such actions were taken are described in the Environmental Assessment (EA) with Finding of No Significant Impact (FONSI) approved on December 15, 2022 and in other project records for the listed project. The Environmental Assessment (EA) with Finding of No Significant Impact (FONSI) and other documents for the listed project are available by contacting FDOT at the address provided above. The Environmental Assessment (EA) with Finding of No Significant Impact (FONSI) and additional project documents can be viewed and downloaded from the project website at: http://www.fdotmiamidade.com/venetianbridgestudy.

The project subject to this notice is:

Project Location: Miami-Dade County, Florida, replacement of eleven of the twelve bridges that form the Venetian Causeway from North Bayshore Drive (City of Miami) to Purdy Avenue (City of Miami Beach).

Project Actions: This notice applies to the Environmental Assessment (EA) with Finding of No Significant Impact (FONSI), and all other Federal Agency licenses, permits, or approvals for the listed project as of the issuance date of this notice including but not limited to the Programmatic Section 4(f) Evaluation and Approval for FDOT Projects that Necessitate the Use of Historic Bridges, the Endangered Species Act—Section 7 Consultation Biological Opinion, Section 106 of the National Historic Preservation Act Memorandum of Agreement, and all laws under which such actions were taken, including but not limited to:

1. General: National Environmental Policy Act (NEPA) [42 U.S.C. 4321et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310].

5. Wildlife: Endangered Species Act (ESA) [16 U.S.C. 1531-1544 and 1536]; Marine Mammal Protection Act [16 U.S.C. 1361-1423h], Anadromous Fish Conservation Act [16 U.S.C. 757(a)-757(f)]; Fish and Wildlife Coordination Act [16 U.S.C. 661-667(d)]; Migratory Bird Treaty Act (MBTA) [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C. 312501-312508]; Native American Grave Protection and Repatriation Act (NAGPRA) [25 U.S.C. 3001-3013; 18 U.S.C. 1170].

7. Social and Economic: Civil Rights Act of 1964 [42 U.S.C. 2000 d-2000d-1]; American Indian Religious Freedom Act [42 U.S.C. 1996]; Farmland Protection Policy Act (FPPA) [7 U.S.C. 4201-4209].

8. Wetlands and Water Resources: Clean Water Act (Section 319, Section 401, Section 404) [33 U.S.C. 1251-1387]; Coastal Barriers Resources Act (CBRA) [16 U.S.C. 3501-3510]; Coastal Zone Management Act (CZMA) [16 U.S.C. 1451-1466]; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1))

Issued on: January 4, 2023.
Karen M. Brunelle,
Director, Office of Project Development, Federal Highway Administration, Tallahassee, Florida.

[FR Doc. 2023-00239 Filed 1-9-23; 8:45 am]

BILLING CODE 4910-RY-P